FEDERAL COMMUNICATIONS COMMISSION

47 CFR Part 76

[CS Docket No. 00-96; FCC 00-417]

Implementation of the Satellite Home Viewer Improvement Act of 1999: Broadcast Signal Carriage Issues/Retransmission Consent Issues

AGENCY: Federal Communications Commission.

ACTION: Final rule; correction.

SUMMARY: The Commission published a document in the Federal Register of January 23, 2001, which implements certain aspects of the Satellite Home Viewer Improvement Act of 1999. Specifically, the document implements regulations regarding the carriage of local television stations in markets where satellite carriers offer local television service to their subscribers. The document should have stated that certain provisions of the rule contained information collection requirements that require approval by the Office of Management and Budget (“OMB”) and that these provisions were not immediately effective. This document corrects the effective date of the January 23, 2001 final rule.

FOR FURTHER INFORMATION CONTACT: Eloise Gore of the Consumer Protection and Competition Division, Cable Services Bureau at (202) 418-7200, TTY (202) 418-7172, or via Internet at egore@fcc.gov.

SUPPLEMENTARY INFORMATION: The Federal Communications Commission published a document adopting satellite broadcast signal carriage rules, which require satellite carriers to carry local television stations in markets where the carriers offer local television service to their subscribers, in the Federal Register of January 23, 2001 (66 FR 7410). In rule FR Doc. 01-1186, published on January 23, 2001 (66 FR 7410) make the following correction:

1. On page 7410, in the first column, correct the “Dates” caption to read as follows:

DATES: The rule in this document is effective January 23, 2001, except §§ 76.66(c)(3), (c)(5), (d), and (m), which contain information collection requirements that have not been approved by the Office of Management and Budget (“OMB”). The Federal Communications Commission will publish a document in the Federal Register announcing the effective date of §§ 76.66(c)(3), (c)(5), (d), and (m). Written comments by the public on the new and/or modified information collections are due March 26, 2001.

Federal Communications Commission.
Magalie Roman Salas,
Secretary.

[FR Doc. 01-16516 Filed 6-28-01; 8:45 am]

BILLING CODE 6712-01-P